DEPARTMENT OF THE TREASURY

Customs Service

19 CFR Part 4

[T.D. 02-62]

RIN 1515-AD11

Presentation of Vessel Cargo Declaration to Customs Before Cargo Is Laden Aboard Vessel at Foreign Port for Transport to the United States; Technical Correction

AGENCY: U.S. Customs Service, Department of the Treasury.

ACTION: Final rule; technical correction.

SUMMARY: This document contains a technical correction to the final regulations (T.D. 02-62), which were published Thursday, October 31, 2002. The regulations required the advance and accurate presentation of certain vessel cargo declaration information to Customs prior to lading the cargo aboard the vessel at the foreign port and encouraged the presentation of this information electronically.

EFFECTIVE DATE: December 2, 2002.

FOR FURTHER INFORMATION CONTACT: Kimberly Nott, Office of Field Operations, (202-927-0042).

SUPPLEMENTARY INFORMATION:

Background

On October 31, 2002, Customs published a final rule document in the Federal Register (67 FR 66318) as T.D. 02-62. The final rule concerned the requirement to provide advance and accurate presentation to Customs of certain vessel cargo declaration information prior to lading the cargo aboard the vessel at the foreign port and encouraged the presentation of this information electronically.

This correction concerns when a transmission of the required cargo declaration information must be made by an eligible non-vessel operating common carrier (NVOCC). Specifically, in T.D. 02-62, § 4.7(b)(2) of the Customs Regulations (19 CFR 4.7(b)(2)) correctly provided that Customs must receive from the vessel carrier the vessel's Cargo Declaration, Customs Form 1302, or a Customs-approved electronic equivalent, 24 hours before such cargo was laden aboard the vessel at the foreign port. By contrast, § 4.7(b)(3)(i) inadvertently stated in effect that if an eligible NVOCC elected to file such cargo declaration information with Customs, the NVOCC would have to electronically transmit this information to Customs 24 hours before the related cargo was laden aboard the vessel at the foreign port.

However, under T.D. 02-62, both vessel carriers and NVOCCs were properly intended to be subject to the same 24-hour advance presentation requirement. As such, it was intended that under § 4.7(b)(3)(i) Customs likewise receive from a participating NVOCC the necessary cargo declaration information 24 hours before the related cargo was laden aboard the vessel at the foreign port. This document corrects that unintended inconsistency.

Correction of Publication

Accordingly, the publication on October 31, 2002 of the final regulations (T.D. 02-62), which were the subject of FR Doc. 02-27661, is corrected as follows:

On page 66331, in the second column, in § 4.7, in the first sentence of paragraph (b)(3)(i), on line 14, add between the words “Vessel Automated Manifest System (AMS)” and “24 or more hours” the words “that must be received'.

Dated: January 9, 2003.
Michael T. Schmitz,
Assistant Commissioner, Office of Regulations and Rulings.

[FR Doc. 03-741 Filed 1-13-03; 8:45 am]

BILLING CODE 4820-02-P